DEPARTMENT OF TRANSPORTATION

Surface Transportation Board

[STB Docket No. AB-364 (Sub-No. 10X)]

Mid-Michigan Railroad, Inc.—Discontinuance of Service Exemption—in Kent County, MI

On June 28, 2005, Mid-Michigan Railroad, Inc. (MMRR), filed with the Board a petition under 49 U.S.C. 10502 for exemption from the provisions of 49 U.S.C. 10903. MMRR seeks to discontinue service over a 1.50-mile line of railroad, extending from milepost 157.97 on MMRR's east-west rail line to the end of the line in Kent County, MI.¹ The line traverses U.S. Postal Service ZIP Codes 49503 and 49504, and includes no stations.

¹ The line was leased from the Central Michigan Railway Company (CMRY) by the Grand Rapids Eastern Railroad, Inc. (GRE), in 1993. See Grand Rapids Eastern Railroad, Inc.—Purchase, Lease and Operation Exemption—Rail Lines of Central Michigan Railroad Company, Finance Docket No. 32297 (ICC served on July 26, 1993). GRE subsequently merged into MMRR. See RailTex, Inc., Mid-Michigan Railroad, Inc., Michigan Shore Railroad, Inc., and Grand Rapids Eastern Railroad, Inc.—Corporate Family Transaction Exemption, STB Finance Docket No. 33693 (ICC served Jan. 20, 1999). CMRY continues to own the assets that MMRR operates over, including, but not limited to, the track, ties, ballast, other track material and land. MMRR has no authority to alter, remove or dispose of any of the assets that are on the line. MMRR seeks discontinuance because The Grand Rapids Press, the only shipper on the line, has stopped using the line, moved its facility to another location and does not oppose the discontinuance.

The line does not contain federally granted rights-of-way. Any documentation in the possession of MMRR will be made available promptly to those requesting it.

The interest of railroad employees will be protected by the conditions set forth in Oregon Short Line R. Co.—Abandonment—Goshen, 360 I.C.C. 91 (1979).

By issuing this notice, the Board is instituting an exemption proceeding pursuant to 49 U.S.C. 10502(b). A final decision will be issued by October 14, 2005. Any offer of financial assistance (OFA) under 49 CFR 1152.27(b)(2) will be due no later than 10 days after service of a decision granting the petition for exemption. Each OFA must be accompanied by a $1,200 filing fee. See 49 CFR 1002.2(f)(25).²

² Because this is a discontinuance proceeding and not an abandonment, trail use/rail banking and public use conditions are not appropriate. Likewise, no environmental or historic documentation is required under 49 CFR 1105.6(c) and 1105.8.

All filings in response to this notice must refer to STB Docket No. AB-364 (Sub-No. 10X), and must be sent to: (1) Surface Transportation Board, 1925 K Street, NW., Washington, DC 20423-0001; and (2) Louis E. Gitomer, Ball Janik LLP, 1455 F Street, NW., Suite 225, Washington, DC 20005. Replies to the petition are due on or before August 8, 2005.

Persons seeking further information concerning discontinuance procedures may contact the Board's Office of Public Services at (202) 565-1592 or refer to the full abandonment or discontinuance regulations at 49 CFR part 1152. Questions concerning environmental issues may be directed to the Board's Section of Environmental Analysis at (202) 565-1539. (Assistance for the hearing impaired is available through the Federal Information Relay Service (FIRS) at 1-800-877-8339.)

Board decisions and notices are available on our Web site at http://www.stb.dot.gov.

Decided: July 12, 2005.
By the Board, David M. Konschnik, Director, Office of Proceedings.
Vernon A. Williams,
Secretary.

[FR Doc. 05-14099 Filed 7-15-05; 8:45 am]

BILLING CODE 4915-01-P